COMMODITY FUTURES TRADING COMMISSION

Sunshine Act Meetings

TIME AND DATE: 9:00 a.m., Tuesday, December 10, 2019.

PLACE: CFTC Headquarters, Lobby-Level Hearing Room, Three Lafayette Centre, 1155 21st Street NW, Washington, DC.

STATUS: Open.

MATTERS TO BE CONSIDERED: The Commodity Futures Trading Commission (“Commission” or “CFTC”) will hold this meeting to consider the following matters:

• Proposed Rule: Capital Requirements for Swap Dealers and Major Swap Participants—Reopening the Comment Period and Requesting Additional Comment;

• Proposed Rule: Amendments to the Swap Clearing Requirement Exemption for Inter-Affiliate Swaps;

• Proposed Rule: Settlements in Administrative and Civil Proceedings; and

• Final Rule: Amendments to Part 13 of the Commission's Regulations (Public Rulemaking Procedures).

The agenda for this meeting will be available to the public and posted on the Commission's website at https://www.cftc.gov. In the event that the time, date, or place of this meeting changes, an announcement of the change, along with the new time, date, or place of the meeting, will be posted on the Commission's website.

CONTACT PERSON FOR MORE INFORMATION: Christopher Kirkpatrick, Secretary of the Commission, 202-418-5964.

Authority: 5 U.S.C. 552b.

Dated: December 3, 2019.
Christopher Kirkpatrick,
Secretary of the Commission.

[FR Doc. 2019-26427 Filed 12-4-19; 11:15 am]

BILLING CODE 6351-01-P